DEPARTMENT OF AGRICULTURE

Food and Nutrition Service

Agency Information Collection Activities: Special Supplemental Nutrition Program for Women, Infants and Children (WIC); Food Delivery Portal (FDP)

AGENCY: Food and Nutrition Service, USDA.

ACTION: Notice.

SUMMARY: In accordance with the Paperwork Reduction Act of 1995, this notice invites the general public and other public agencies to comment on this proposed information collection. This collection is a revision of a currently approved collection to provide FNS and WIC State agencies with an ongoing/annual data set that can be used to assess State agencies' compliance with WIC vendor management requirements and estimate State agencies' progress in eliminating fraud, waste, and abuse.

DATES: Written comments must be received on or before September 13, 2021.

ADDRESSES: Comments may be submitted via email to the attention of FDP Help Desk at SM.fn.FDPHelp@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amy Herring, at amy.herring@usda.gov or (703) 305-2376.

SUPPLEMENTARY INFORMATION: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Delivery Portal (FDP) Data Collection (formerly The Integrity Profile (TIP) Data Collection).

Form Number: None.

OMB Number: 0584-0401.

Expiration Date: September 30, 2021.

Type of Request: Revision of a Currently Approved Collection.

Abstract: Each year, WIC State agencies administering the Special Supplemental Nutrition Program for Women, Infants, and Children (WIC) are required by 7 CFR 246.12(j)(5) to submit to FNS an annual summary of the results of their vendor monitoring efforts in order to provide Congress, senior FNS officials, as well as the general public, assurance that every reasonable effort is being made to ensure integrity in the WIC Program. The number of WIC State agencies in fiscal year 2020 is 89. This includes 50 geographic State agencies, 33 State agencies operated by Indian Tribal Organizations, the District of Columbia, Puerto Rico, Guam, American Samoa, the Commonwealth of the Northern Mariana Islands, and the Virgin Islands. Through FY 2021, States report compliance and monitoring data in The Integrity Profile (TIP) system. That system is being replaced with an upgraded, web-based system called Food Delivery Portal (FDP). Starting FY 2022, all WIC State agencies will use the upgraded web-based system.

The existing TIP system was designed and developed using the WIC Program requirements current as of 2005. Since 2005, there have been changes to the requirements, policies, technology, and guidance that the current system cannot support. It is critical that FNS implements a more robust data collection system to align with current security protocols and compliance guidance, support data storage and web components, ensure cost effectiveness, allow for more data-driven decision-making through increased data analytic functionality, enhance FNS reporting capabilities, reduce grantee burden through automated calculations and consolidated reporting, and add data validation features to reduce reporting errors. With this update, the TIP system will be replaced with the Food Delivery Portal (FDP).

The TIP system currently collects data via three automated forms: FNS-698 Profile of Integrity Practices and Procedures (PIPP) Report, FNS-699 The Integrity Profile (TIP) Report, and FNS-700 Vendor Record. Revisions and consolidations in data collection in the FDP will eliminate these physical forms for the annual collection, instead allowing each State agency to provide updates using FDP. The screens in FDP provide a more flexible method of data capture, that focuses on the data that has changed for the year rather than recapturing all data elements each time. As a part of the upgrade effort, existing data in the TIP system will be migrated to the new FDP.

There is an increase in the burden hours because FNS intends to seek feedback from the State agencies on the system. However, the responses for this collection will decrease as the FNS program needs have changed, and Seneca Nation no longer administers WIC. The State agency is currently required to generate a complete data package in TIP each year for each vendor. The current system requires each State agency to submit data for all of its vendors within a single file. The proposed changes for FDP allow each State agency to enter the majority of its vendor information once and then only update the fields that have changed within the year, reducing the data entry and monitoring burden. There is no recordkeeping burden associated with this information collection request.

Estimate of Burden: Public reporting burden for this collection of information is based on the fields in the new online application, and the total number of vendor records estimated to be entered into FDP by WIC State agencies.

The highest total burden for a single record is estimated at 10 minutes (0.167 hours) for completing manual data entry for all fields in a new record. This estimate is based upon each vendor operating as a WIC authorized vendor at some point during the year. It includes the time for reviewing instructions, searching existing data sources, gathering and maintaining the data needed, and completing and reviewing the collection of information. It is estimated to take 30 minutes (0.50 hours) for the data upload,

Entering Vendor Data

Each State agency maintains their vendor data records within their state-level system of record. They report to FDP the finalized records for each fiscal year. State agencies have the following two options for reporting annual vendor records. In FY 2019, there were 41,675 vendor records reported in TIP across all 89 State agencies. Of these 89 State agencies, 16 State agencies used Option 1 and 73 State agencies used Option 2.

Option 1: State agencies manually update or add new records to the FDP system using the application screens. The FDP system stores and pre-populates information for vendors from the previous year's submission making updating existing entries quicker. FNS estimates that 16 out of 89 State agencies (with a total of 456 vendors—430 existing and 26 new) will update existing and enter new vendors using Option 1.

To update an existing record, State agencies must update any applicable changes to contract information (including status determinations), redemption data, monitoring activities, compliance investigations, sanctions, and administrative reviews on applicable existing vendors, taking approximately 5 minutes (0.083 hours per vendor). On average, these State agencies each update 26.9 records (430 records divided by 16 State agencies, rounded to nearest tenth). FNS estimates a total of 35.7 hours to update existing records (0.083 hours per vendor × 430 responses).

To enter a new record, State agencies must complete all data fields for new vendors authorized during the fiscal year, taking approximately 10 minutes (0.167 hours per vendor) to complete the record. On average, these State agencies each update 1.6 records (26 records divided by 16 State agencies, rounded to nearest tenth). FNS estimates a total of 4.3 hours to enter the new records (0.167 hours × 26 responses).

Option 2: State agencies upload data files in the FDP system with all vendor data. FNS estimates out of 89 State agencies, 73 State agencies (with a total of 41,219 vendor records), will upload their data using Option 2. FNS estimates that it will take 30 minutes (0.50 hours) for a State agency to upload its vendor data, with small to medium State agencies taking up to a minute to upload data and large State agencies taking up to 60 minutes to upload data. The total hours requested for State agencies using Option 2 is 36.5 hours (0.50 hours per upload x 73 State agencies).

Data Preparation

Table 1 depicts the estimated time for each State agency to prepare its vendor data for submission in FDP. The estimated time varies as some State agencies' MIS automatically generate the data each fiscal year while other State agencies manually compile the data from multiple sources. FNS estimates that data preparation takes 1 to 30 hours with a median of 10 hours. For this estimate, median is used instead of mean as the data is skewed, based upon the number of records reported by each State agency on authorized vendors. FNS estimates the burden hours needed to comply with this requirement is 890 hours (89 State agencies × 10 hours per submission).

SA System Feedback

Table 1 depicts the estimated time that each State agency might spend reviewing and responding to FNS requests for feedback on the system on an annual basis. FNS estimates that it will take approximately 2.5 hours per State agency to provide this feedback, for an estimated 222.5 hours.

Affected Public: State, Local, and Tribal Government. Respondent groups identified include State, Tribal, and WIC agencies in the District of Columbia and in U.S. territories.

Estimated Number of Respondents: The total estimated number of respondents is 194.

Estimated Number of Responses per Respondent: For update Option 1, the frequency for the manual entry of a new record is 1.6 and 26.9 for the manual update of existing records, while the frequency for Option 2 (Data Upload) is one. Respondents prepare the data and respond to system feedback once per year. For all of the respondents across the entire collection, FNS estimates a frequency of 3.644.

Estimated Total Annual Responses: 707 responses.

Estimated Time per Response: The estimated time of response varies from 5 minutes (.083 hours) to 10 hours depending on respondent group, as shown in the table below, with an average estimated time of 1.682 hours for all participants.

Estimated Total Annual Burden on Respondents: 1,189 hours. See the table below for estimated total annual burden for each type of respondent.

Table 1—Estimate of Burden Hours
Respondent category | Type of respondents (optional) | Instruments | Form | Number of respondents | Frequency of response | Total annual responses | Hours per response | Annual burden (hours)
State Government | State Program Staff | Manual entry of a new record | FDP | 16 | 1.6 | 26 | 0.167 | 4.3
State Government | State Program Staff | Manual update existing record | FDP | 16 | 26.9 | 430 | 0.083 | 35.7
State Government | State Program Staff | Data Upload | FDP | 73 | 1 | 73 | 0.5 | 36.5
State Government | State Program Staff | Data Preparation for this ICR |  | 89 | 1 | 89 | 10.0 | 890.0
State Government | State Program Staff | SA System Feedback |  | 89 | 1 | 89 | 2.5 | 222.5
Total |  |  |  | 194 | 3.644 | 707 | 1.682 | 1,189

Cynthia Long,
Acting Administrator, Food and Nutrition Service.

[FR Doc. 2021-15051 Filed 7-14-21; 8:45 am]

BILLING CODE 3410-30-P